DEPARTMENT OF HOMELAND SECURITY

U.S. Customs and Border Protection

Extension and Expansion of Declaration Zone Test

AGENCY: U.S. Customs and Border Protection, DHS.

ACTION: General notice.

SUMMARY: On August 30, 2021, U.S. Customs and Border Protection (CBP) announced in the Federal Register that CBP would conduct a Declaration Zone test at cruise terminal facilities at participating sea ports of entry (POEs) that would run for approximately two years. This document announces that CBP is extending the test period for an additional two years. In addition to the extension, this document announces that CBP intends to expand the Declaration Zone test to up to eighteen additional sea POEs, as well as to travelers being processed in Simplified Arrival for open loop cruises. The Declaration Zone test allows for streamlined processing by allowing a demonstrative initial declaration for arriving travelers in lieu of an oral or written declaration of all articles brought into the United States to a CBP officer as required by current CBP regulations.

DATES: CBP is extending the Declaration Zone test at cruise terminal facilities at participating sea POEs until October 16, 2025. CBP is expanding the Declaration Zone test to eligible open loop cruises no sooner than October 1, 2023. The expansion date may vary at each location.

ADDRESSES: Written comments concerning program, policy, and technical issues may be submitted at any time during the test period via email to BiometricSea@cbp.dhs.gov. Please use “Comment on Declaration Zone Test” in the subject line of the email.

FOR FURTHER INFORMATION CONTACT: Maria Rivera, Program Manager, Biometric Entry-Exit Strategic Transformation, Office of Field Operations, maria.c.rivera@cbp.dhs.gov or (202) 325-4596.

SUPPLEMENTARY INFORMATION:

Background

On August 30, 2021, U.S. Customs and Border Protection (CBP) announced in the Federal Register (86 FR 48436) that CBP would conduct a Declaration Zone test at cruise terminal facilities at participating sea ports of entry (POEs). The notice describes the Declaration Zone test, while setting forth requirements for participating in the test, the duration of the test, and how CBP will evaluate the test. The notice also invites public comment on any aspect of the test. In brief, the Declaration Zone test fulfills the declaration requirement under CBP regulations, while also allowing for streamlined processing. Current CBP regulations require each traveler to provide an oral or written declaration of all articles brought into the United States to a CBP officer. See 19 CFR part 148, subpart B. The Declaration Zone test provides arriving travelers with an alternative method to meet this requirement by allowing a demonstrative initial declaration through the use of declaration zones at cruise terminal facilities at select sea POEs.

Description and Procedures

The 2021 notice provides the description and procedures for the Declaration Zone test. 86 FR 48437. Within a cruise terminal facility participating in the Declaration Zone test, two distinct customs declaration zone queues are established for entering the egress area: one for No Items to Declare and another for Items to Declare. Signage is posted to clearly label the queues at the entrance to the egress area after travelers collect their luggage. The physical act of selecting the No Items to Declare queue or the Items to Declare queue in and of itself constitutes an initial demonstrative declaration. CBP officers conduct roving enforcement operations within the baggage collection and egress area to ensure traveler compliance.

No Items To Declare Queue

Travelers who determine they have nothing to declare enter the No Items to Declare queue and proceed through the egress area to the facility exit. CBP officers conduct roving operations in the No Items to Declare zone to affirm traveler compliance, receive oral declarations, and make referrals to secondary inspection as necessary. Travelers who are not questioned by CBP officers conducting roving operations may proceed to the exit.

Items To Declare Queue

Travelers with items to declare enter the Items to Declare queue and present before a CBP officer to make an oral declaration. The CBP officer makes a determination if duty is owed by the traveler or if additional inspection is warranted. The CBP officer then directs the traveler accordingly.

Referral to Secondary Inspection

If a traveler is referred to secondary inspection at any point, CBP officers will follow standard procedures, including collecting an oral and/or written declaration during the referral and inspection. CBP officers will also follow current agency policy on declaration amendment opportunities.

Test Period and Participants

As indicated in the 2021 notice, the Declaration Zone test was set to begin no earlier than September 27, 2021, and run for approximately two years, initially at two sea POEs, Miami, Florida, and Bayonne, New Jersey. 86 FR 48436-7. The 2021 notice stated that the start date may vary at each location in accordance with the resumption of passenger operations suspended due to the COVID-19 pandemic. 86 FR 48437. Also, as indicated in the 2021 notice, the test is currently restricted to closed loop cruises participating in the voluntary facial biometric debarkation (FBD) program. 86 FR 48437.

Extension of the Declaration Zone Test Period and Expansion of the Declaration Zone Test

Extension of the Test Period

Based on limited cruise line operations and the suspension of passenger operations due to the COVID-19 pandemic, CBP was not able to implement the Declaration Zone test until May 2022 in Bayonne and July 2022 in Miami. Due to this postponement, CBP is extending the Declaration Zone test for an additional two years until October 16, 2025, to properly assess and evaluate the impact of the new form of declaration.

Expansion of the Test

Additional Sea POEs

In addition to the extension of the test period, to better evaluate the Declaration Zone test, CBP also intends to expand the Declaration Zone test to cruise terminal facilities at up to eighteen additional sea POE locations. CBP will only expand the Declaration Zone test to cruise terminal facilities at sea POEs with the sufficient space and infrastructure to accommodate queuing for processing through a Declaration Zone. CBP Headquarters will communicate with each Field Office and POE with cruise terminal facilities meeting these criteria and advise of the option to have a Declaration Zone test at their respective terminal(s). As provided in the 2021 notice, once a new location is identified, CBP will announce the expansion on the public facing CBP website, https://www.cbp.gov, notifying the traveling public of the implementation of demonstrative declarations upon arrival into the United States at that particular sea POE. 86 FR 48437.

Eligible Open Loop Cruises

Additionally, CBP is expanding the Declaration Zone test to travelers being processed in Simplified Arrival for open loop cruises. When the Declaration Zone test was initially announced in 2021, it was limited to passengers on closed loop cruises processed in FBD. FBD is the facial biometric solution for processing arriving cruise passengers on closed loop cruises, whereas Simplified Arrival is an equivalent facial biometric solution for processing arriving cruise passengers on open loop cruises.¹ The test will no longer be restricted to closed loop cruises and will expand to open loop cruises participating in Simplified Arrival no sooner than October 1, 2023. The expansion date may vary at each location.

¹ Simplified Arrival is an enhanced international arrival process that uses facial biometrics to automate the manual document checks that are already required for admission into the United States. More information on CBP's use of facial biometrics to secure and streamline travel can be found at https://www.cbp.gov/travel/biometrics.

Authorization for the Test

The test described in the 2021 notice ² and extended and expanded by this notice is authorized pursuant to 19 CFR 101.9(a), which allows the Commissioner of CBP to impose requirements different from those specified in the CBP Regulations for purposes of conducting a test program or procedure designed to evaluate the effectiveness of new operational procedures regarding the processing of passengers. This test is authorized pursuant to this regulation as it is designed to evaluate whether allowing a demonstrative initial declaration is a feasible way to fulfill the declaration requirement and allow for streamlined processing.

² 86 FR 48437.

Waiver of Certain Regulatory Requirements

CBP regulations require each traveler to provide an oral or written declaration of all articles brought into the United States to a CBP officer. See 19 CFR 148.12 and 148.13. The test described in the 2021 notice ³ and extended and expanded by this notice provides arriving travelers with an alternative method to meet this requirement by allowing a demonstrative initial declaration. All other requirements of 19 CFR part 148, subpart B, regarding declarations, including those provided by 19 CFR 148.18, regarding failure to declare, and 19 CFR 148.19, regarding false or fraudulent statements, still apply.

³ 86 FR 48437.

Dated: October 10, 2023.
Diane J. Sabatino,
Acting Executive Assistant Commissioner, Office of Field Operations, U.S. Customs and Border Protection.

[FR Doc. 2023-22714 Filed 10-13-23; 8:45 am]

BILLING CODE 9111-14-P